DEPARTMENT OF ENERGY

Federal Energy Regulatory Commission

[Docket No. RP03-579-000]

Columbia Gas Transmission Corporation; Notice of Proposed Changes in FERC Gas Tariff

August 29, 2003.

Take notice that on August 26, 2003, Columbia Gas Transmission Corporation (Columbia) tendered for filing as part of its FERC Gas Tariff, Second Revised Volume No. 1, following tariff sheets, bearing a proposed effective date of September 25, 2003:

Second Revised Sheet No. 100

Second Revised Sheet No. 105

Fourth Revised Sheet No. 116

Second Revised Sheet No. 130

Third Revised Sheet No. 166

Sixth Revised Sheet No. 501

First Revised Sheet No. 501A

Third Revised Sheet No. 502A

Sixth Revised Sheet No. 503

First Revised Sheet No. 503.01

Fifth Revised Sheet No. 511

Columbia states it is making the filing to allow it to mutually agree with shippers, on a not unduly discriminatory basis, to combine multiple service agreements under the same rate schedule with varying terms of service for different contract demand quantities into a single service agreement for purposes of increased administrative ease in nominating daily service requirements on the pipeline. Columbia states its proposed revisions are entirely voluntary on the shipper's part and will not expand or restrict any other shipper's existing firm service rights or obligations under any other provisions of Columbia's Tariff.

Columbia states that copies of its filing have been mailed to all firm customers, interruptible customers and affected state commissions.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary” (FERRIS). Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “eLibrary” link.

Comment Date: September 8, 2003.

Magalie R. Salas,
Secretary.

[FR Doc. 03-22732 Filed 9-5-03; 8:45 am]

BILLING CODE 6717-01-P